DEPARTMENT OF COMMERCE

Foreign-Trade Zones Board

[B-44-2016]

Foreign-Trade Zone (FTZ) 44—Morris County, New Jersey; Notification of Proposed Production Activity; Givaudan Flavors Corporation (Flavor Products); East Hanover, New Jersey

The State of New Jersey, Department of State, grantee of FTZ 44, submitted a notification of proposed production activity to the FTZ Board on behalf of Givaudan Flavors Corporation (Givaudan), located in East Hanover, New Jersey. The notification conforming to the requirements of the regulations of the FTZ Board (15 CFR 400.22) was received on June 13, 2016.

A separate application for subzone designation at the Givaudan facility was submitted and will be processed under Section 400.31 of the Board's regulations. The facility is used for the production of flavor compounds. Pursuant to 15 CFR 400.14(b), FTZ activity would be limited to the specific foreign-status materials and components and specific finished products described in the submitted notification (as described below) and subsequently authorized by the FTZ Board.

Production under FTZ procedures could exempt Givaudan from customs duty payments on the foreign-status components used in export production. On its domestic sales, Givaudan would be able to choose the duty rates during customs entry procedures that apply to beverage preparations with alcohol, food articles containing sugar, concentrated orange oil, concentrated lemon oil, concentrated citrus oil, citrus oil blends, flavor preparations for food or drink without alcohol, flavor preparations for food or drink with alcohol, perfume bases and odoriferous substances other than food, drink or perfume bases (duty rate ranges from free to 17 cents/kg + 1.9%) for the foreign status inputs noted below. Customs duties also could possibly be deferred or reduced on foreign-status production equipment.

The components and materials sourced from abroad include: benzaldehyde, vanillin, orange oil, concentrated orange oil, lemon oil, and concentrated lemon oil (duty rate ranges from 2.7% to 5.5%).

Public comment is invited from interested parties. Submissions shall be addressed to the Board's Executive Secretary at the address below. The closing period for their receipt is August 9, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: June 24, 2016.
Elizabeth Whiteman,
Acting Executive Secretary.

[FR Doc. 2016-15628 Filed 6-29-16; 8:45 am]

BILLING CODE 3510-DS-P